DEPARTMENT OF THE INTERIOR

National Park Service

[NPS-WASO-NAGPRA-NPS0033676; PPWOCRADN0-PCU00RP14.R50000]

Notice of Inventory Completion: Nebraska State Historical Society DBA History Nebraska, Lincoln, NE

AGENCY: National Park Service, Interior.

ACTION: Notice.

SUMMARY: History Nebraska has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to History Nebraska. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to History Nebraska at the address in this notice by May 5, 2022.

FOR FURTHER INFORMATION CONTACT: David Williams, State Archeologist, History Nebraska, 5050 North 32nd Street, Lincoln, NE 68504, telephone (402) 219-2759, email dave.williams@nebraska.gov.

SUPPLEMENTARY INFORMATION: Notice is here given in accordance with the Native American Graves Protection and Repatriation Act (NAGPRA), 25 U.S.C. 3003, of the completion of an inventory of human remains and associated funerary objects under the control of History Nebraska, Lincoln, NE. The human remains and associated funerary objects were removed from Antelope County, Boone County, Cass County, Cedar County, Cherry County, Custer County, Dixon County, Frontier County, Gage County, Harlan County, Lancaster County, Nance County, Nemaha County, Platte County, Stanton County, Washington County, and two unknown counties in NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by History Nebraska professional staff in consultation with representatives of the Iowa Tribe of Kansas and Nebraska; Omaha Tribe of Nebraska; Otoe-Missouria Tribe of Indians, Oklahoma; Pawnee Nation of Oklahoma; Ponca Tribe of Nebraska; Santee Sioux Nation, Nebraska; Three Affiliated Tribes of the Fort Berthold Reservation, North Dakota; and the Winnebago Tribe of Nebraska.

The following Indian Tribes were invited to consult but did not participate: Apache Tribe of Oklahoma; Assiniboine and Sioux Tribes of the Fort Peck Indian Reservation, Montana; Cheyenne and Arapaho Tribes, Oklahoma [previously listed as Cheyenne-Arapaho Tribes of Oklahoma]; Cheyenne River Sioux Tribe of the Cheyenne River Reservation, South Dakota; Comanche Nation, Oklahoma; Crow Creek Sioux Tribe of the Crow Creek Reservation, South Dakota; Crow Tribe of Montana; Delaware Nation, Oklahoma; Delaware Tribe of Indians; Iowa Tribe of Oklahoma; Kaw Nation, Oklahoma; Kickapoo Tribe of Indians of the Kickapoo Reservation in Kansas; Kickapoo Tribe of Oklahoma; Kiowa Indian Tribe of Oklahoma; Lower Brule Sioux Tribe of the Lower Brule Reservation, South Dakota; Northern Arapaho Tribe of the Wind River Reservation, Wyoming [previously listed as Arapaho Tribe of the Wind River Reservation, Wyoming]; Northern Cheyenne Tribe of the Northern Cheyenne Indian Reservation, Montana; Oglala Sioux Tribe [previously listed as Oglala Sioux Tribe of the Pine Ridge Reservation, South Dakota]; Ponca Tribe of Indians of Oklahoma; Prairie Band Potawatomi Nation [previously listed as Prairie Band of Potawatomi Nation, Kansas]; Rosebud Sioux Tribe of the Rosebud Indian Reservation, South Dakota; Sac & Fox Nation of Missouri in Kansas and Nebraska; Sac & Fox Nation, Oklahoma; Sac & Fox Tribe of the Mississippi in Iowa; Sisseton-Wahpeton Oyate of the Lake Traverse Reservation, South Dakota; Spirit Lake Tribe, North Dakota; Standing Rock Sioux Tribe of North & South Dakota; Wichita and Affiliated Tribes (Wichita, Keechi, Waco, & Tawakonie), Oklahoma; and the Yankton Sioux Tribe of South Dakota.

Hereafter, all the Indian Tribes listed in this section are referred to as “The Tribes.”

History and Description of the Remains

In June of 2021, human remains representing, at minimum, two individuals were removed from archeological site 25AP108 in Antelope County, NE. The human remains were discovered during housing construction. Pursuant to state law, the Nebraska State Patrol turned these remains over to History Nebraska to determine whether they were of forensic interest. Examination by a physical anthropologist determined the human remains to be Native American and not of forensic interest. The human remains belong to two adult males. No known individuals were identified. No associated funerary objects are present.

In the spring of 2019, human remains representing, at minimum, one individual were removed from Boone County, NE. The human remains were exposed in a stream during a flood event. Pursuant to state law, the Boone County Sherriff's Office turned these human remains over to History Nebraska to determine whether they were of forensic interest. Examination by a physical anthropologist determined the human remains to be Native American and not of forensic interest. The human remains belong to an adult male. No known individual was identified. No associated funerary objects are present.

In August of 2020, human remains representing, at minimum, one individual were removed from Boone County, NE. The human remains were exposed in a stream during an erosional event. Pursuant to state law, the Boone County Sherriff's Office turned these human remains over to History Nebraska to determine whether they were of forensic interest. Examination by a physical anthropologist determined the human remains to be Native American and not of forensic interest. The human remains belong to an adult female. No known individual was identified. No associated funerary objects are present.

In 1949, human remains representing, at minimum, one individual were removed from site 25CC55, in Cass County, NE, by History Nebraska following disturbance from topsoil removal for limestone quarrying. The age and sex of the individual are indeterminate. No known individual was identified. The one associated funerary object is a mussel shell bead.

At an unknown date, human remains representing, at minimum, one individual were removed found at an unknown location in Cass County, NE, by a Mr. Kunkel, who later donated the human remains to History Nebraska. No known individual was identified. The one associated funerary object is a ceramic body sherd.

Sometime between 1958 and 1969, human remains representing, at minimum, eight individuals, were removed from site 25CD22, in Cedar County, NE. The human remains were excavated by the property owner and the University of Nebraska-Lincoln. Sometime in the 1970s, the human remains were sent to the Smithsonian Institution's National Museum of Natural History for study. In November of 2021, following a request by staff at the Smithsonian, these human remains were transferred to History Nebraska for curation/disposition. The human remains belong to one juvenile male, four adult males, and three adult females. No known individuals were identified. The 62 associated funerary objects are two mussel shell fragments, one complete mussel shell, 14 fire-cracked rocks/pebbles, two ceramic body sherds, three stone endscrapers, nine pieces of stone flaking debris, 30 mammal bones, and one bird bone.

At an unknown date, human remains representing, at minimum, one individual were removed from Cherry County, NE, by managers of a ranch. In July of 2018, the human remains were donated to History Nebraska. Examination by a physical anthropologist determined the human remains to be Native American and not of forensic interest. The age and sex of the individual cannot be determined. No known individual was identified. No associated funerary objects are present.

In 1925, human remains representing, at minimum, one individual were removed from a location west of Broken Bow in Custer County, NE, by Dr. G.E. Pennington. In 1962, Dr. Pennington donated the human remains to History Nebraska. Examination by a physical anthropologist determined the human remains to be Native American and not of forensic interest. The human remains belong to an adult of indeterminate sex. No known individual was identified. No associated funerary objects are present.

At an unknown date, human remains representing, at minimum, one individual were removed from near Maskell in Dixon County, NE, and later donated to History Nebraska. Examination by a physical anthropologist determined the human remains to be Native American and not of forensic interest. The human remains belong to one adult of indeterminate sex. No known individual was identified. No associated funerary objects are present.

At an unknown date, human remains representing, at minimum, one individual were removed from Section 31 T5N R 25W in Frontier County, NE, and later donated to History Nebraska. Examination by a physical anthropologist determined the human remains to be Native American and not of forensic interest. The human remains belong to an adult male. No known individual was identified. No associated funerary objects are present.

At an unknown date, human remains representing, at minimum, one individual were removed from an unknown location along the Blue River in Gage County, NE. The human remains were later donated by the Gage County Sherriff to History Nebraska. Examination by a physical anthropologist determined the human remains to be Native American and not of forensic interest. The human remains belong to an adult of indeterminate sex. No known individual was identified. No associated funerary objects are present.

At an unknown date, human remains representing, at minimum, one individual were removed from an unknown location near the town of Orleans in Harlan County, NE. In 2021, the human remains were donated to History Nebraska. Examination by a physical anthropologist determined the human remains to be Native American and not of forensic interest. The age and sex of the individual cannot be determined. No known individual was identified. The 65 associated funerary objects include three pieces of turquoise or amazonite, one mussel shell bead, one fragment of mica, and 60 small rocks or chipped stone flakes.

In the spring of 1935, human remains representing, at minimum, one individual were removed from the Schrader site (25LC1) in Lancaster County, NE, by History Nebraska during excavations sponsored by the Works Progress Administration (WPA). Examination by a physical anthropologist determined the human remains to be Native American and not of forensic interest. The age and sex of the individual cannot be determined. No known individual was identified. No associated funerary objects are present.

In 2019, human remains representing, at minimum, one individual were removed from Nance County, NE. The human remains were exposed in a stream during a flood event. Pursuant to state law, the Nance County Sherriff's Office turned over these remains to History Nebraska to determine if they were of forensic interest. Examination by a physical anthropologist determined the human remains to be Native American and not of forensic interest. The human remains belong to an adult female. No known individual was identified. No associated funerary objects are present.

In May of 2021, human remains representing, at minimum, one individual were removed from site 25NC165 in Nance County, NE. The human remains were discovered eroding from a stream bank. Pursuant to state law, the Nance County Sherriff's Office turned over these remains to History Nebraska to determine if they were of forensic interest. Examination by a physical anthropologist determined the human remains to be Native American and not of forensic interest. The human remains belong to an adult female. No known individual was identified. The seven associated funerary objects are three ceramic body sherds, one elk metapodial hide flesher, one bison horn core, one iron fragment, and one piece of ochre.

Sometime in the 1950s, human remains representing, at minimum, one individual were removed from along the Missouri River in Nemaha County, NE. In the spring of 2021, a physical anthropologist at the University of Nebraska-Lincoln analyzed these human remains. Subsequently, the human remains were turned over to History Nebraska for disposition. The human remains belong to a female of indeterminate age. No known individual was identified. No associated funerary objects are present.

In the spring of 2020, human remains representing, at minimum, one individual were removed from a private residence in Platte County, NE. Pursuant to state law, the Platte County Sherriff's Office turned over these human remains to History Nebraska to determine if they were of forensic interest. Examination by a physical anthropologist determined the human remains to be Native American and not of forensic interest. The human remains belong to an adult female. No known individual was identified. No associated funerary objects are present.

On March 26, 2019, human remains representing, at minimum, one individual were removed from an unknown location in Stanton County, NE. The human remains were found along a riverbank following a flood event. Pursuant to state law, the Stanton County Sherriff's Office turned over these human remains to History Nebraska to determine if they were of forensic interest. Examination by a physical anthropologist determined the human remains to be Native American and not of forensic interest. The human remains belong to an adult of indeterminate sex. No known individual was identified. No associated funerary objects are present.

On April 27, 2019, human remains representing, at minimum, one individual were removed from an Elkhorn River bank following a flood event in Stanton County, NE. Pursuant to state law, the Stanton County Sherriff's Office turned over these human remains to History Nebraska to determine if they were of forensic interest. Examination by a physical anthropologist determined the human remains to be Native American and not of forensic interest. The human remains belong to an adult of indeterminate sex. No known individual was identified. No associated funerary objects are present.

In the spring of 2019, human remains representing, at minimum, one individual were removed from an unknown location in Washington County, NE. Pursuant to state law, the Washington County Sherriff's Office turned over these remains to History Nebraska to determine if they were of forensic interest. Examination by a physical anthropologist determined the human remains to be Native American and not of forensic interest. The human remains belong to an adult of indeterminate sex. No known individual was identified. No associated funerary objects are present.

In 1996, human remains representing, at minimum, one individual, were removed from an unknown location in NE. The human remains were transferred anonymously from New York state to History Nebraska together with a note indicating they had been removed from Nebraska. Examination by a physical anthropologist determined the human remains to be Native American and not of forensic interest. The human remains belong to a child of indeterminate sex. No known individual was identified. The three associated funerary objects are two copper alloy bracelets and one string of glass beads of various colors.

In the 1950s, human remains representing, at minimum, one individual were discovered and removed during drilling at an unknown location in western NE. In the spring of 2021, a physical anthropologist at the University of Nebraska-Lincoln analyzed these human remains. Subsequently, the human remains were turned over to History Nebraska for disposition. The human remains belong to a Native American male of indeterminate age. No known individual was identified. The one associated funerary object is a pair of wire spectacles.

All the human remains listed in this notice were determined to be Native American based on archeological context, burial patterns, osteology, and associated diagnostic artifacts. Based on oral tradition and archeological evidence, History Nebraska has determined there is a relationship of shared group identity that can be reasonably traced between the human remains and associated funerary objects listed in this notice and The Tribes.

Determinations Made by History Nebraska

Officials of History Nebraska have determined that:

• Pursuant to 25 U.S.C. 3001(9), the human remains described in this notice represent the physical remains of 30 individuals of Native American ancestry.

• Pursuant to 25 U.S.C. 3001(3)(A), the 140 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dave Williams. State Archeologist, History Nebraska, 5050 North 32nd Street, Lincoln, NE 68504, telephone (402) 219-2759, email dave.williams@nebraska.gov, by May 5, 2022. After that date, if no additional requestors have come forward, transfer of control of the human remains and associated funerary objects to The Tribes may proceed.

History Nebraska is responsible for notifying The Tribes that this notice has been published.

Dated: March 30, 2022.
Melanie O'Brien,
Manager, National NAGPRA Program.

[FR Doc. 2022-07171 Filed 4-4-22; 8:45 am]

BILLING CODE 4312-52-P